DEPARTMENT OF HEALTH AND HUMAN SERVICES

Centers for Disease Control and Prevention

[60-Day-22-0488; Docket No. CDC-2022-0043]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed and/or continuing information collection, as required by the Paperwork Reduction Act of 1995. This notice invites comment on a proposed information collection project titled Interstate Travel of Persons: Report of Illness or Death (42 CFR part 70). This collection gathers information on the required reporting of ill persons or deaths occurring during interstate travel, primarily air travel.

DATES: CDC must receive written comments on or before May 31, 2022.

ADDRESSES: You may submit comments, identified by Docket No. CDC-2022-0043 by either of the following methods:

• Federal eRulemaking Portal: Regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; phone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses;

5. Assess information collection costs.

Proposed Project

Interstate Travel of Persons: Report of Illness or Death (42 CFR part 70) (OMB Control No. 0920-0488, Exp. 6/30/2022)—Revision—National Center for Emerging and Zoonotic Infectious Diseases (NCEZID), Centers for Disease Control and Prevention (CDC).

Background and Brief Description

Section 361 of the Public Health Service Act (42 U.S.C. 264) authorizes the Secretary of the Department of Health and Human Services to make and enforce regulations necessary to prevent the introduction, transmission, or spread of communicable diseases from foreign countries into the United States, or from one State or possession into any other State or possession. CDC administers regulations pertaining to interstate control of communicable diseases (42 CFR part 70), and sections 42 CFR parts 70.4 and 70.11 include requirements reports of ill persons or death if occurring during interstate travel.

The intended use of the information is to ensure that CDC can assess and respond to reports of ill persons or death that occur on conveyances engaged in interstate travel and assist state and local health authorities if an illness or death occurs that poses a risk to public health. Generally, the primary source of this information is aircraft traveling within the United States.

There are no standard forms associated with this information collection. Reporting requirements imposed by the regulations have been reduced and streamlined by reliance upon State and local health departments to manage most situations occurring within their jurisdictions. If submission of information under these regulations becomes necessary, all information may be submitted in the most expeditious manner practical. At this time, all reporting of a communicable disease or death is accomplished electronically, e.g., via Air Traffic Control or via the airlines' points of contact (e.g., Operations Center, Flight Control, Airline Station Manager.)

For reports of ill persons or death on a conveyance engaged in interstate traffic, the total burden is estimated from 1,600 respondents submitting domestic reports of death or communicable disease in 2021. This is a significant increase due to reports of illness from the COVID-19 pandemic, with an average burden of seven minutes per report. CDC requests approval for an estimated 186 annual burden hours. There is no cost to respondents other than the time required to make the report of illness or death.

Estimated Annualized Burden Hours
Type of respondent | Form name | Number of respondents | Number of responses per respondent | Average burden per response (in hours) | Total burden (in hours)
Pilot in command | 42 CFR 70.11 Report of death or illness onboard aircraft operated by airline | 1,400 | 1 | 7/60 | 163
Master of vessel or person in charge of conveyance | 42 CFR 70.4 Report by the master of a vessel or person in charge of conveyance of the incidence of a communicable disease occurring while in interstate travel | 200 | 1 | 7/60 | 23
Total |  | 1,600 |  |  | 186

Jeffrey M. Zirger,
Lead, Information Collection Review Office, Office of Scientific Integrity, Office of Science, Centers for Disease Control and Prevention.

[FR Doc. 2022-06916 Filed 3-31-22; 8:45 am]

BILLING CODE 4163-18-P